ENVIRONMENTAL PROTECTION AGENCY

[EPA-HQ-OAR-2006-0971; FRL-9923-72-OEI]

Information Collection Request Submitted to OMB for Review and Approval; Comment Request; National Volatile Organic Compound Emission Standards for Architectural Coatings (Renewal)

Correction

In notice document 2015-04017 appearing on pages 10480-10481 in the issue of February 26, 2015 make the following correction:

On page 10481, in the first column, under the DATES heading, in the second line, “March 9, 2015” should read “March 30, 2015”.

[FR Doc. C1-2015-04017 Filed 3-11-15; 8:45 am]

BILLING CODE 1505-01-D